NATIONAL SCIENCE FOUNDATION

Proposal Review Panel for Physics; Notice of Meeting

In accordance with the Federal Advisory Committee Act (Pub. L. 92-463, as amended), the National Science Foundation announces the following meeting.

Name: Proposal Review Panel for Physics, Stony Brook Site Visit in Physics (#1208).

Date and Time: Thursday, November 19, 2009; 8:30 a.m.-6:30 p.m. Friday, November 20, 2009: 8:30 a.m.-1:00 p.m.

Place: Room 1020, NSF, 4201 Wilson Blvd., Arlington, VA 22230.

Type of Meeting: Partially Closed.

Contact Person: Dr. David Lissauer, Program Director for Elementary Particle Physics, National Science Foundation, 4201 Wilson Blvd., Arlington, VA 22230. Telephone: (703) 292-7061.

Purpose of Meeting: To provide an evaluation concerning the proposal submitted to the National Science Foundation.

Agenda

Thursday. November 19, 2009

Closed—8:30 a.m.-9:15 a.m. Executive Session.

Open—9:15 a.m.-12:30 p.m. Atlas Discussion.

Closed—12:30 p.m.-1:30 p.m. Meeting with Students and Post Docs.

Open—1:30 p.m.-5 p.m. Atlas and D Zero Presentations.

Closed—5 p.m.-6:30 p.m. Executive Session.

Friday, November 20, 2009

Closed—8:30 a.m.-9 a.m. Executive Session.

Open—9 a.m.-11 a.m. Facilities Tour and Outreach D Zero Presentations.

Closed—11 a.m.-1 p.m. Executive Session.

Reason for Closing: The proposal contains proprietary or confidential material including technical information; financial data, such as salaries; and personal information concerning individuals associated with the proposals. These matters are exempt under 5 U.S.C. 552b(c) and (6) of the Government in the Sunshine Act.

Dated: October 20, 2009.
Susanne Bolton,
Committee Management Officer.

[FR Doc. E9-25505 Filed 10-22-09; 8:45 am]

BILLING CODE 7555-01-P